DEPARTMENT OF TRANSPORTATION

Federal Aviation Administration

[Docket No. FAA2019-0238]

Agency Information Collection Activities: Requests for Comments; Clearance of a Renewed Approval of Information Collection: Human Response to Aviation Noise in Protected Natural Areas Survey

AGENCY: Federal Aviation Administration (FAA), DOT.

ACTION: Notice and request for comments.

SUMMARY: In accordance with the Paperwork Reduction Act of 1995, FAA invites public comments about our intention to request the Office of Management and Budget (OMB) approval to renew an information collection. This information will be used to establish a scientific basis for air tour management policy decisions in the National Parks as mandated by the National Parks Air Tour Management Act of 2000.

DATES: Written comments should be submitted by May 28, 2019.

ADDRESSES: Please send written comments:

By Electronic Docket: www.regulations.gov (Enter docket number into search field).

By mail: Office of Environment and Energy (AEE-100) Federal Aviation Administration 800 Independence Ave. SW, Washington, DC 20591.

By fax: 202-267-5594.

FOR FURTHER INFORMATION CONTACT: Sean Doyle by email at: sean.doyle@faa.gov; phone: 202-267-3493.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0744.

Title: Human Response to Aviation Noise in Protected Natural Areas Survey.

Form Numbers: There are no FAA forms associated with this request.

Type of Review: Renewal of an information collection.

Background: The data from this research are critically important for establishing the scientific basis for air tour management policy decisions in the National Parks as mandated by the National Parks Air Tour Management Act of 2000 (NPATMA). The research expands on previous aircraft noise dose-response work by using a wider variety of survey methods, by including different site types and visitor experiences from those previously measured, and by increasing site type replication.

Respondents: Approximately 16,800 visitors to National Parks annually.

Frequency: Information is collected on occasion.

Estimated Average Burden per Response: 15 minutes.

Estimated Total Annual Burden: 4,200 hours annually.

Issued in Washington, DC, on March 25, 2019.
Kevin Welsh,
Director Office of Environment and Energy, Federal Aviation Administration Office of Environment and Energy (AEE).

[FR Doc. 2019-06065 Filed 3-28-19; 8:45 am]

BILLING CODE 4910-13-P